DEPARTMENT OF COMMERCE

National Oceanic and Atmospheric Administration

[I.D. 080502I]

North Pacific Fishery Management Council; Public Meeting

AGENCY: National Marine Fisheries Service (NMFS), National Oceanic and Atmospheric Administration (NOAA), Commerce.

ACTION: Notice of committee meeting.

SUMMARY: The North Pacific Fishery Management Council's (Council) Improved Retention/Improved Utilization (IR/IU) Technical Committee will meet in Seattle, WA.

DATES: The meeting will be held on August 28-29, 2002, from 9 a.m. to 5 p.m. each day.

ADDRESSES: The meeting will be held at the Alaska Fishery Science Center, 7600 Sand Point Way NE, Bldg. 4, Room 2079, Seattle, WA 98115.

Council address: North Pacific Fishery Management Council, 605 W. 4th Ave., Suite 306, Anchorage, AK 99501-2252.

FOR FURTHER INFORMATION CONTACT: Council Staff: 907-271-2809

SUPPLEMENTARY INFORMATION: On Wednesday, August 28th and Thursday, August 29th, the Committee will meet at the Alaska Fishery Science Center. Agenda consists of: Review of June 2002 Council motion, NMFS Management and Implementation considerations for IR/IU; industry presentation of bycatch reduction cooperative proposals; discussion of selection of alternatives to be presented to the Council; develop work assignments of set dates for next meeting.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Gail Bendixen, 907-271-2809, at least 5 working days prior to the meeting date.

Dated: August 9, 2002.
Richard W. Surdi,
Acting Director, Office of Sustainable Fisheries, National Marine Fisheries Service.

[FR Doc. 02-20659 Filed 8-13-02; 8:45 am]

BILLING CODE 3510-22-S